DEPARTMENT OF THE INTERIOR

Fish and Wildlife Service

[FWS-R4-R-2010-N053; 40136-1265-0000-S3]

Piedmont National Wildlife Refuge, Jones and Jasper Counties, GA

AGENCY: Fish and Wildlife Service, Interior.

ACTION: Notice of availability: Draft comprehensive conservation plan and environmental assessment; request for comments.

SUMMARY: We, the Fish and Wildlife Service (Service), announce the availability of a draft comprehensive conservation plan and environmental assessment (Draft CCP/EA) for Piedmont National Wildlife Refuge (NWR) for public review and comment. In this Draft CCP/EA, we describe the alternative we propose to use to manage this refuge for the 15 years following approval of the final CCP.

DATES: To ensure consideration, we must receive your written comments by June 14, 2010.

ADDRESSES: You may obtain a copy of the Draft CCP/EA by contacting Ms. Laura Housh, via U.S. mail at Okefenokee National Wildlife Refuge, 2700 Suwannee Canal Road, Folkston, GA 31537, or via e-mail at laura_housh@fws.gov. You may also download the document from our Internet Site as follows: http://southeast.fws.gov/planning under “Draft Documents.” Submit comments on the Draft CCP/EA to the above postal address or e-mail address.

FOR FURTHER INFORMATION CONTACT: Ms. Laura Housh, Refuge Planner, telephone: 912-496-7366, ext. 244; fax: 912-496-3322.

SUPPLEMENTARY INFORMATION:

Introduction

With this notice, we continue the CCP process for Piedmont NWR. We started the process through a notice in the Federal Register on April 4, 2008 (73 FR 18552).

For more about the refuge and our CCP process, please see that notice.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in the Draft CCP/EA include: (1) Management for threatened and endangered species; (2) refuge boundary and future land acquisition; (3) forest and fire management and education; (4) cane break restoration; (5) invasive species control; (6) climate change; (7) partnerships; (8) air and water quality; (9) protection of cultural resources; (10) urban development; (11) law enforcement; (12) public access; (13) wildlife-dependent recreation; (14) camping; and (15) facilities, staffing, and funding needs.

CCP Alternatives, Including Our Proposed Alternative

We developed four alternatives for managing the refuge and chose Alternative B as the proposed alternative. A full description of each alternative is in the Draft CCP/EA. We summarize each alternative below.

Alternative A—No Action Alternative

Under Alternative A, we would continue to monitor and manage the red-cockaded woodpecker population to achieve our goal for this endangered species. We would conduct limited surveys for other wildlife species. No active management would occur for waterfowl, wetland-dependent birds, raptors, fish, reptiles, amphibians, and other resident birds and mammals. We would continue current forest management practices by actively managing 22,500 acres of upland pine with timber harvesting and prescribed burning. The current fire management program would be maintained to achieve viable wildlife and plant communities. We would reduce fuels by burning on a 3-year rotation and by participating in a fuels' monitoring program. Wildlife openings and roadsides would be maintained through mowing and prescribed burning. We would opportunistically treat invasive plants with herbicides and prescribed burning, enhance cane areas, and manage bottomland and upland hardwoods. For aquatic species, we would continue to implement Georgia's Best Management Practices for Forestry and manage the impoundments as a demonstration area for waterfowl by performing periodic drawdown and limited planting.

We would continue to welcome and orient visitors and maintain current opportunities for wildlife observation and photography. The level of environmental education opportunities would continue to be limited due to lack of resources, and outreach activities would continue to be limited to one event per year. We would maintain existing hunting and fishing programs as well as current facilities. We would continue to enforce all State and Federal laws applicable to the refuge, provide visitor safety, protect wildlife and cultural resources, and ensure public compliance by enforcing current refuge regulations.

The staff would continue to support both Piedmont and Bond Swamp NWRs. We would work with private landowners and partners to promote our goals and objectives. Land could be acquired from willing sellers within the current acquisition boundary and in accordance with Service policy. The current volunteer program would be maintained.

Alternative B—Wildlife and Habitat Diversity (Proposed Action)

We selected Alternative B as the alternative that best signifies the vision, goals, and purposes of Piedmont NWR. This alternative was selected based on public input and the best professional judgment of the planning team. Under Alternative B, the emphasis would be on restoring and improving refuge resources needed for wildlife and habitat management and providing enhanced appropriate and compatible wildlife-dependent public use opportunities.

We would continue to monitor and manage the red-cockaded woodpecker population, but would increase the population goal by 3 to 5 percent. We would increase wildlife surveys conducted under Alternative A to include surveying for breeding birds, bald eagles, furbearers, resident birds, raptors, reptiles and amphibians. We would initiate basic inventories for fish species and invertebrates, including dragonflies, crayfish, and mussels. We would continue to collect quail, turkey, and deer data through managed hunts and surveys, and reinstate turkey brood counts. We would increase efforts to maintain a deer population of 30 to 35 deer per-square-mile, with a balanced sex ratio.

We would expand habitat management by modifying forest management strategies to benefit wildlife and habitat diversity. We would continue to maintain current fire management programs but intensify management of a 5,000-acre Piedmont savanna focus area with smaller burn units on a 2-year rotation. We would prioritize the need for removal of invasive plants and animals and would enhance wildlife openings and roadsides for early successional habitat diversity. For aquatic species, we would continue to implement Georgia's Best Management Practices for Forestry, but would also survey streams to identify species. We would continue to manage the impoundments as a demonstration area for waterfowl and implement a water management program to enhance habitat and wildlife diversity. We would identify unique and rare habitat types and modify management activities as needed to protect and restore priority areas. Cane areas would continue to be strategically managed.

We would revise the current visitor services plan and update signs, brochures, exhibits, and websites. Kiosks and an automated phone system would be added. We would expand current opportunities for wildlife observation, wildlife photography, environmental education and interpretation, and outreach. We would continue to maintain, and where possible, expand existing hunting and fishing opportunities. We would maintain our current law enforcement program and, in addition, revise the law enforcement plan and reinstate the law enforcement outreach program. We would document additional historic sites and update current GIS data to provide for better resource protection. We would develop an integrated cultural resources plan. Under this alternative, we would evaluate the potential of expanding the refuge acquisition boundary to meet our goals and objectives in accordance with current Service policy.

We would seek partnerships to monitor the impacts of climate change on refuge resources and adapt management as needed to conserve the native wildlife and habitats. Administration plans would identify increased maintenance of existing infrastructure and construction of new facilities. We would acquire and maintain equipment, facilities, and infrastructure to support refuge programs.

Additional staff would be required to accomplish the goals of Alternative B and support both Piedmont and Bond Swamp NWRs. This would include reinstating an assistant forester and an interpretive park ranger and adding a biologist, a forestry technician, a park ranger (law enforcement), a refuge operations specialist, a prescribed fire/fuels technician, an engineering equipment operator, and two seasonal forestry technicians (firefighters). We would continue to promote partnerships and work with adjacent private landowners to support our goals and objectives. We would expand our volunteer program to include more resident interns.

Alternative C—Migratory Birds

Under Alternative C, we would focus on migratory birds. The majority of our efforts would deal with enhancing habitat for and increasing the population of migratory birds. We would continue to monitor and manage the red-cockaded woodpecker population in accordance with recovery plan guidelines. We would conduct current surveys for wildlife as identified under Alternative B. We would initiate annual woodcock surveys, a kestrel nesting box program, and identify and manage for the habitat needs of neotropical and migratory birds. We would reestablish the wood duck banding program, work with partners to manage impoundments to benefit waterfowl, increase acres in impoundments to benefit wetland-dependent birds, and identify the nesting, breeding, roosting, and foraging habitat needs of raptors. As under Alternative B, we would initiate a streams survey and would restore and manage fisheries resources, but would also retain at least 30 percent of submergent vegetation in ponds. To support healthy migratory bird populations, we would initiate predator control. As under Alternative B, we would establish a Piedmont savanna focus area, but would replace summer quail call counts with fall covey counts. Resident wildlife monitoring and management would be the same as under Alternative A unless stated otherwise. We would expand habitat management, but would also identify areas to focus on cane habitat management and increase structural diversity of bottomland hardwood areas. The fire management program would be maintained, but would increase the acreage of the Piedmont savanna focus area to greater than 5,000 acres and change the fire intervals to maximize the benefits to migratory birds outside of the focus area. We would expand invasive plant species control from uplands to include other habitat types to reduce adverse impacts to migratory birds. We would continue to manage the impoundments, implement a water management program, and manage unique and rare habitats as under Alternative B, but the emphasis would be on migratory birds. We would target management in open lands for priority migratory bird species.

We would revise the visitor services plan and would expand current opportunities for wildlife observation, wildlife photography, and environmental education and interpretation, but with the emphasis on migratory birds. Facilities to enhance these visitor services would be added, but observation constraints would be implemented to avoid disturbance to migratory birds. We would host one annual festival focusing on migratory birds. We would continue to maintain, and where possible, expand hunting programs, but would evaluate limiting or closing fishing on ponds to reduce impacts to wintering and nesting waterfowl.

We would implement a law enforcement program as stated under Alternative B, but focus on migratory birds. We would seek partnerships to evaluate and adapt to the impacts of climate change and work with private landowners to promote migratory bird resources. The volunteer program would focus on migratory bird projects.

Alternative D—Rare, Threatened, and Endangered Species

The focus of Alternative D would be on management of rare, threatened, and endangered species. We would intensively manage for red-cockaded woodpeckers on the maximum potential acres in upland forest by removing hardwoods, promoting pine, increasing prescribed burning, and initiating an intra-population translocation program. As under Alternative B, we would continue to conduct current wildlife surveys, establish but intensively manage a Piedmont savanna focus area, and initiate surveys for wetland-dependent birds and raptors. We would conduct comprehensive surveys focused on rare, threatened, and endangered species of invertebrates, reptiles, amphibians, and bats. The invasive species control program would emphasize reducing adverse impacts to rare, threatened, and endangered species and their habitats. We would increase acres in impoundments and manage them to benefit wood stork foraging habitat and other species of concern. Open lands would be managed for rare, threatened, and endangered species.

We would revise the visitor services plan and expand current opportunities for wildlife observation, wildlife photography, and environmental education. We would implement observation constraints to avoid disturbance to rare, threatened, and endangered species. One annual festival focusing on rare, threatened, and endangered species would be held annually on the refuge. We would continue to maintain, and where possible, expand existing hunting programs, but would evaluate limiting or closing fishing on ponds to reduce impacts to rare, threatened, and endangered species.

We would continue to maintain an active law enforcement program, protect cultural resources, pursue land acquisition, establish partnerships, and manage volunteers as under Alternative B, and where applicable, focus on rare, threatened, and endangered species.

Next Step

After the comment period ends, we will analyze the comments and address them.

Public Availability of Comments

Before including your address, phone number, e-mail address, or other personal identifying information in your comment, you should be aware that your entire comment—including your personal identifying information—may be made publicly available. While you can ask us in your comment to withhold your personal identifying information from public review, we cannot guarantee that we will be able to do so.

Authority

This notice is published under the authority of the National Wildlife Refuge System Improvement Act of 1997, Public Law 105-57.

Dated: March 19, 2010.
Mark J. Musaus,
Acting Regional Director.

[FR Doc. 2010-11417 Filed 5-12-10; 8:45 am]

BILLING CODE 4310-55-P